ENVIRONMENTAL PROTECTION AGENCY

[FRL-9799-1]

Draft Small Municipal Separate Storm Sewer System NPDES General Permit—New Hampshire; Extension of Comment Period

AGENCY: Environmental Protection Agency (EPA).

ACTION: Notice; extension of comment period.

SUMMARY: EPA issued a Notice of Availability of the draft Small Municipal Separate Storm Sewer System (MS4) National Pollutant Discharge Elimination System (NPDES) general permit for New Hampshire, published in the Federal Register on February 12, 2013. This notice extends the comment period for 30 days, from April 15, 2013 to May 15, 2013.

DATES: Comments must be received on or before May 15, 2013.

ADDRESSES: Submit comments by one of the following methods:

• Email: Tedder.Newton@epa.gov.

• Mail: Newton Tedder, US EPA—Region 1, 5 Post Office Square—Suite 100, Mail Code—OEP06-4, Boston, MA 02109-3912.

No facsimiles (faxes) will be accepted.

FOR FURTHER INFORMATION CONTACT: Additional information concerning the draft permit may be obtained between the hours of 9:00 a.m. and 5:00 p.m. Monday through Friday excluding legal holidays from: Newton Tedder, Office of Ecosystem Protection, Environmental Protection Agency, 5 Post Office Square—Suite 100, Boston, MA 02109-3912; telephone: 617-918-1038; email: Tedder.Newton@epa.gov.

SUPPLEMENTARY INFORMATION: This notice extends the public comment period established in the Federal Register issue of February 12, 2013 (78 FR 9908) (FRL-13-006 and 9779-7). In that notice, EPA announced the availability for public comment of its draft small MS4 NPDES general permit for New Hampshire. This extension is in response to requests received from several commenters to extend the comment period. EPA is hereby extending the comment period, which was set to end on April 15, 2013, to May 15, 2013.

Dated: March 27, 2013.
H. Curtis Spalding,
Regional Administrator, Region 1.

[FR Doc. 2013-07870 Filed 4-3-13; 8:45 am]

BILLING CODE 6560-50-P